DEPARTMENT OF LABOR

Employment and Training Administration

[TA-W-74,940]

New Process Gear, a Division of Magna Powertrain, Including On-Site Leased Workers From ABM Janitorial Service Northeast, Inc., and IS One, Inc., East Syracuse, NY; Amended Certification Regarding Eligibility To Apply for Worker Adjustment Assistance

In accordance with Section 223 of the Trade Act of 1974, as amended (“Act”), 19 U.S.C. 2273, the Department of Labor issued a Certification of Eligibility to Apply for Worker Adjustment Assistance on January 7, 2011, applicable to workers of New Process Gear, a division of Magna Powertrain, East Syracuse, New York, The workers produce automotive components. The notice was published in the Federal Register on January 26, 2011 (75 FR 77669). The notice was amended on June 21, 2012 to include on-site leased workers from ABM Janitorial Service Northeast, Inc. The amended notice was published in the Federal Register on July 16, 2012 (77FR 41807).

At the request of the State agency, the Department reviewed the certification for workers of the subject firm. The company reports that workers leased from IS One, Inc. were employed on-site at the East Syracuse, New York location of New Process Gear, a division of Magna Powertrain. The Department has determined that these workers were sufficiently under the control of New Process Gear, a division of Magna Powertrain to be considered leased workers.

Based on these findings, the Department is amending this certification to include workers leased from IS One, Inc. working on-site at the East Syracuse, New York location of New Process Gear, a division of Magna Powertrain.

The amended notice applicable to TA-W-74,940 is hereby issued as follows:

All workers of New Process Gear, a division of Magna Powertrain, including on-site leased workers from ABM Janitorial Service Northeast, Inc., and IS One, Inc., East Syracuse, New York, who became totally or partially separated from employment on or after December 17, 2010, through January 7, 2013, and all workers in the group threatened with total or partial separation from employment on the date of certification through two years from the date of certification, are eligible to apply for adjustment assistance under Chapter 2 of Title II of the Trade Act of 1974, as amended.

Signed at Washington, DC, this 31st day of August 2012.
Elliott S. Kushner,
Certifying Officer, Office of Trade Adjustment Assistance.

[FR Doc. 2012-22650 Filed 9-13-12; 8:45 am]

BILLING CODE 4510-FN-P